DEPARTMENT OF TRANSPORTATION

Federal Aviation Administration

14 CFR Part 39

[Docket No. FAA-2013-0797; Directorate Identifier 2013-NM-007-AD; Amendment 39-18776; AD 2017-01-09]

RIN 2120-AA64

Airworthiness Directives; The Boeing Company Airplanes

AGENCY: Federal Aviation Administration (FAA), DOT.

ACTION: Final rule; correction.

SUMMARY: The FAA is correcting an airworthiness directive (AD) that published in the Federal Register. That AD applies to certain The Boeing Company Model 767-300 and 767-300F airplanes. Certain service information citations in the preamble and regulatory text are incorrect. This document corrects those errors. In all other respects, the original document remains the same.

DATES: This final rule is effective February 21, 2017.

The Director of the Federal Register approved the incorporation by reference of certain publications listed in this AD as of February 21, 2017 (82 FR 4778, January 17, 2017).

ADDRESSES: For service information identified in this final rule, contact Boeing Commercial Airplanes, Attention: Contractual & Data Services (C&DS), 2600 Westminster Blvd., MC 110-SK57, Seal Beach, CA 90740-5600; telephone: 562-797-1717; Internet: https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2013-0797.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Francis Smith, Aerospace Engineer, Cabin Safety and Environmental Controls Branch, ANM-150S, FAA, Seattle Aircraft Certification Office (ACO), 1601 Lind Avenue SW., Renton, WA 98057-3356; phone: 425-917-6596; fax: 425-917-6590; email: francis.smith@faa.gov.

SUPPLEMENTARY INFORMATION: Airworthiness Directive 2017-01-09, amendment 39-18776 (82 FR 4778, January 17, 2017), requires modification and installation of components in the main equipment center for certain Model 767-300 and 767-300F series airplanes. For certain airplanes, AD 2017-01-09 also requires modification, replacement, and installation of flight deck air relief system (FDARS) components.

Need for the Correction

As published, certain service information citations in the preamble and regulatory text were incorrect. The incorrectly specified citation in the preamble and regulatory text was Boeing Service Bulletin 767-27-0244, Revision 1, dated March 8, 2010 (“SB 767-27-0244, R1”); the correct citation is Boeing Service Bulletin 767-21-0244, Revision 1, dated March 8, 2010 (“SB 767-21-0244, R1”).

Related Service Information Under 1 CFR Part 51

We reviewed the following service information.

• Boeing Service Bulletin 767-21-0235, dated October 8, 2009; and Revision 1, dated July 29, 2011 (“SB 767-21-0235, R1”). The service information describes procedures for a relay installation and related wiring changes (which change (modify) the 3-way valve control logic for the cooling system for the flight deck display equipment on freighter airplanes).

• Boeing Service Bulletin 767-21-0244, Revision 1, dated March 8, 2010 (“SB 767-21-0244, R1”). The service information describes procedures for changing (modifying) the 3-way valve control logic and installing a cooling system for the flight deck display equipment.

• Boeing Alert Service Bulletin 767-21A0245, Revision 2, dated September 27, 2013 (“ASB 767-21A0245, R2”); and Boeing Alert Service Bulletin 767-21A0247, Revision 1, dated April 9, 2013 (“ASB 767-21A0247, R1”). The service information describes procedures for changing (modifying) the 3-way valve control logic and main cargo air distribution system (MCADS), and installing an FDARS. These documents are distinct since they apply to different airplane models.

• Boeing Alert Service Bulletin 767-21A0253, dated October 12, 2012. The service information describes procedures for replacing the existing duct, installing an FDARS, changing (modifying) the 3-way valve control logic, and installing a new altitude switch and pitot tube.

• Boeing Alert Service Bulletin 767-21A0254, dated June 7, 2013. The service information describes procedures for replacing the duct with a new duct; installing an FDARS (including the installation of mounting brackets, ducts, orifice, outlet valve, and screen); and activating the 3-way valve logic (including modification of the associated wiring and related actions).

• Boeing Service Bulletin 767-31-0073, dated October 12, 1995. The service information describes procedures for installing a maintenance data selection system for the engine indication and crew alerting system.

This service information is reasonably available because the interested parties have access to it through their normal course of business or by the means identified in the ADDRESSES section.

Correction of Publication

This document corrects errors in the citation of certain service information and correctly adds the AD as an amendment to 14 CFR 39.13. Although no other part of the preamble or regulatory information has been corrected, we are publishing the entire rule in the Federal Register.

The effective date of this AD remains February 21, 2017.

Since this action only corrects errors in the citation of certain service information, it has no adverse economic impact and imposes no additional burden on any person. Therefore, we have determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following new airworthiness directive (AD):

2017-01-09 The Boeing Company: Amendment 39-18776; Docket No. FAA-2013-0797; Directorate Identifier 2013-NM-007-AD.

(a) Effective Date

This AD is effective February 21, 2017.

(b) Affected ADs

None.

(c) Applicability

This AD applies to The Boeing Company Model 767-300 and 767-300F series airplanes, certificated in any category; as identified in the service information specified in paragraphs (c)(1) through (c)(5) of this AD. This AD does not apply to The Boeing Company Model 767-300 (passenger) series airplanes.

(1) Boeing Service Bulletin 767-21-0244, Revision 1, dated March 8, 2010 (“SB 767-21-0244, R1”).

(2) Boeing Alert Service Bulletin 767-21A0245, Revision 2, dated September 27, 2013 (“ASB 767-21A0245, R2”).

(3) Boeing Alert Service Bulletin 767-21A0247, Revision 1, dated April 9, 2013 (“ASB 767-21A0247, R1”).

(4) Boeing Alert Service Bulletin 767-21A0253, dated October 12, 2012.

(5) Boeing Alert Service Bulletin 767-21A0254, dated June 7, 2013.

(d) Subject

Air Transport Association (ATA) of America Code 21, Air Conditioning.

(e) Unsafe Condition

This AD was prompted by reports of malfunctions in the flight deck display units, which resulted in blanking, blurring, or loss of color on the display. We are issuing this AD to prevent malfunctions of the flight deck display units, which could affect the ability of the flight crew to read the displays for airplane attitude, altitude, or airspeed, and consequently reduce the ability of the flight crew to maintain control of the airplane.

(f) Compliance

Comply with this AD within the compliance times specified, unless already done.

(g) Installation of Flight Deck Air Relief System (FDARS) and 3-Way Valve Logic Change or Activation

(1) For Model 767-300F series airplanes, as identified in Boeing Alert Service Bulletin 767-21A0253, dated October 12, 2012: Within 72 months after the effective date of this AD, in the main equipment center and the area under the left and right sides of the flight deck floor, replace the existing duct with a new duct; install an FDARS (including the installation of mounting brackets, ducts, orifice, outlet valve, and screen); change the 3-way valve logic (including modification of the associated wiring and related actions); and install a new altitude switch and pitot tube; in accordance with the Accomplishment Instructions of Boeing Alert Service Bulletin 767-21A0253, dated October 12, 2012.

(2) For Model 767-300F series airplanes, as identified in Boeing Alert Service Bulletin 767-21A0254, dated June 7, 2013: Within 72 months after the effective date of this AD, in the main equipment center and the area under the left and right sides of the flight deck floor, replace the duct with a new duct; install an FDARS (including the installation of mounting brackets, ducts, orifice, outlet valve, and screen); and activate the 3-way valve logic (including modification of the associated wiring and related actions); in accordance with the Accomplishment Instructions of Boeing Alert Service Bulletin 767-21A0254, dated June 7, 2013.

(h) Installation of FDARS and a 3-Way Valve Control Logic and Main Cargo Air Distribution System Change

(1) For Model 767-300F series airplanes, as identified in ASB 767-21A0245, R2: Within 72 months after the effective date of this AD, in the main equipment center and the area under the left and right sides of the flight deck floor, change (modify) the 3-way valve control logic and main cargo air distribution system (MCADS), and install an FDARS, in accordance with the Accomplishment Instruction of ASB 767-21A0245, R2, except as provided by paragraph (j) of this AD.

(2) For Model 767-300F series airplanes, as identified in ASB 767-21A0247, R1: Within 72 months after the effective date of this AD, change (modify) the 3-way valve control logic and MCADS, and install an FDARS, in accordance with the Accomplishment Instructions of ASB 767-21A0247, R1.

(i) Installation of a Flight Deck Display Equipment Cooling System and a 3-Way Valve Logic Change

For Model 767-300 series airplanes that have been converted by Boeing to Model 767-300BCF (Boeing Converted Freighter) airplanes, as identified in SB 767-21-0244, R1: Within 72 months after the effective date of this AD, change (modify) the 3-way valve control logic and install a flight deck display equipment cooling system, in accordance with the Accomplishment Instructions of SB 767-21-0244, R1.

(j) Exception to Paragraph (h)(1) of This AD

For Model 767-300F series airplanes, as identified in ASB 767-21A0245, R2: If the 3 way valve control logic change (modification) specified in Boeing Service Bulletin 767-21-0235, dated October 8, 2009; or Revision 1, dated July 29, 2011 (“SB 767-21-0235, R1”); is done prior to or concurrent with the actions required by paragraph (h)(1) of this AD, operators need to do only the functional test, FDARS installation, and flex duct change, in accordance with the Accomplishment Instructions of ASB 767-21A0245, R2. Operators do not need to do the other actions specified in the Accomplishment Instructions of ASB 767-21A0245, R2, if the actions in the Accomplishment Instructions of Boeing Service Bulletin 767-21-0235, dated October 8, 2009; or SB 767-21-0235, R1; are done concurrently. If the functional test fails, before further flight, do corrective actions that are approved in accordance with the procedures specified in paragraph (l) of this AD.

(k) Concurrent Requirements

(1) For Groups 1 and 3 airplanes, as identified in ASB 767-21A0245, R2: Prior to or concurrently with accomplishing the requirements of paragraph (h)(1) of this AD, do the relay installation and related wiring changes specified in, and in accordance with, the Accomplishment Instructions of Boeing Service Bulletin 767-21-0235, dated October 8, 2009; or SB 767-21-0235, R1.

(2) For Group 1 airplanes, as identified in ASB 767-21A0247, R1: Prior to or concurrently with accomplishing the requirements of paragraph (h)(2) of this AD, do the relay installation and related wiring changes specified in the Accomplishment Instructions of Boeing Service Bulletin 767-21-0235, dated October 8, 2009; or SB 767-21-0235, R1.

(3) For Model 767-300 series airplanes that have been converted by Boeing to Model 767-300BCF airplanes, as identified in SB 767-21-0244, R1: Prior to or concurrently with accomplishing the requirements of paragraph (i) of this AD, do all the actions (installation) specified in the Accomplishment Instructions of Boeing Service Bulletin 767-31-0073, dated October 12, 1995.

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m) of this AD. Information may be emailed to: 9-ANM-SeattleACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane and the approval must specifically refer to this AD.

(m) Related Information

For more information about this AD, contact Francis Smith, Aerospace Engineer, Cabin Safety and Environmental Controls Branch, ANM-150S, FAA, Seattle ACO, 1601 Lind Avenue SW., Renton, WA 98057-3356; phone: 425-917-6596; fax:425 917-6590; email: francis.smith@faa.gov.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on February 21, 2017 (82 FR 4778, January 17, 2017).

(i) Boeing Service Bulletin 767-21-0235, dated October 8, 2009.

(ii) Boeing Service Bulletin 767-21-0235, Revision 1, dated July 29, 2011.

(iii) Boeing Service Bulletin 767-21-0244, Revision 1, dated March 8, 2010.

(iv) Boeing Alert Service Bulletin 767-21A0245, Revision 2, dated September 27, 2013.

(v) Boeing Alert Service Bulletin 767-21A0247, Revision 1, dated April 9, 2013.

(vi) Boeing Alert Service Bulletin 767-21A0253, dated October 12, 2012.

(vii) Boeing Alert Service Bulletin 767-21A0254, dated June 7, 2013.

(viii) Boeing Service Bulletin 767-31-0073, dated October 12, 1995.

(4) For service information identified in this AD, contact Boeing Commercial Airplanes, Attention: Contractual & Data Services (C&DS), 2600 Westminster Blvd., MC 110-SK57, Seal Beach, CA 90740-5600; telephone: 562-797-1717; Internet: https://www.myboeingfleet.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on February 2, 2017.
Michael Kaszycki,
Assistant Manager, Transport Airplane Directorate, Aircraft Certification Service.

[FR Doc. 2017-03028 Filed 2-15-17; 8:45 am]

BILLING CODE 4910-13-P